ENVIRONMENTAL PROTECTION AGENCY

40 CFR Part 50

[EPA-HQ-OAR-2005-0172; FRL-8482-1]

RIN 2060-AN24

National Ambient Air Quality Standards for Ozone

AGENCY: Environmental Protection Agency (EPA).

ACTION: Proposed rule; correction.

SUMMARY: The EPA published a proposed rule in the July 11, 2007 Federal Register requesting comments on the National Ambient Air Quality Standards for Ozone. The document contained an incorrect fax number for submitting comments to the Air and Radiation Docket and Information Center. Because of the incorrect fax number, we are allowing an additional 3 days for submittal of faxed comments. Only faxed comments will be granted an additional 3 days for submittal.

DATES: Faxed comments on this proposed rule must be received by October 15, 2007.

ADDRESSES: Submit your faxed comments to: 202-566-9744. Identify comments by Docket ID No. EPA-HQ-OAR-2005-0172.

FOR FURTHER INFORMATION CONTACT: Dr. David J. McKee, Health and Environmental Impacts Division, Office of Air Quality Planning and Standards, Environmental Protection Agency, Mail code C504-06, Research Triangle Park, NC 27711, telephone: 919-541-5288; fax number: 919-541-0237; e-mail address: mckee.dave@epa.gov.

SUPPLEMENTARY INFORMATION:

Correction

In the Federal Register of July 11, 2007, in FR Document Volume 72, No. 132, on page 37818, in the second column, under the “ADDRESSES” heading the fax number is corrected to read:

• Fax: 202-566-9744.

Dated: October 9, 2007.
Mary E. Henigin,
Acting Director, Office of Air Quality Planning and Standards.

[FR Doc. E7-20246 Filed 10-11-07; 8:45 am]

BILLING CODE 6560-50-P